DEPARTMENT OF COMMERCE

National Oceanic and Atmospheric Administration

[I.D. 032003A]

Endangered Species; File No. 1189

AGENCY: National Marine Fisheries Service (NMFS), National Oceanic and Atmospheric Administration (NOAA), Commerce.

ACTION: Issuance of permit modification.

SUMMARY: Notice is hereby given that Dr. James P. Kirk, USAE Waterways Experiment Station, CEWES-ER-A, 3909 Halls Ferry Road, Vicksburg, Mississippi 39180-6199 has been issued a modification to scientific research Permit No.1189.

ADDRESSES: The amendment and related documents are available for review upon written request or by appointment in the following office(s):

Permits, Conservation and Education Division, Office of Protected Resources, NMFS, 1315 East-West Highway, Room 13705, Silver Spring, MD 20910; phone (301)713-2289; fax (301)713-0376; and,

Southeast Region, NMFS, 9721 Executive Center Drive North, St. Petersburg, FL 33702-2432; phone (727)570-5301; fax (727)570-5320.

FOR FURTHER INFORMATION CONTACT: Jennifer Jefferies or Gene Nitta, (301)713-2289.

SUPPLEMENTARY INFORMATION: On February 25, 2002, and on July 18, 2002, notices were published in the Federal Register [(67 FR 8526) and (67 FR 47351), respectively] that modifications of Permit No. 1189, issued April 22, 1999 (64 FR 23281), had been requested by the above-named individual. The requested modifications have been granted under the authority of the Endangered Species Act of 1973, as amended (ESA; 16 U.S.C. 1531 et seq.) and the regulations governing the taking, importing, and exporting of endangered and threatened species (50 CFR 222-226).

Permit No. 1189 authorizes the permit holder to capture 300 shortnose sturgeon annually by gill net or trot lines in the Ogeechee River, Georgia, then measure, tag, weigh, and release them. Twenty of these may be surgically implanted with radio/sonic tags and tracked. Accidental mortalities are not to exceed one shortnose sturgeon per year. The issuance of this modification extends the permit's expiration date to December 31, 2004 and adds trawling as a sampling method for the purpose of capturing shortnose sturgeon less than eight years of age.

Issuance of this modification, as required by the ESA, was based on a finding that such permit (1) was applied for in good faith, (2) will not operate to the disadvantage of the endangered species which is the subject of this permit, and (3) is consistent with the purposes and policies set forth in section 2 of the ESA.

Dated: May 2, 2003.
Stephen L. Leathery,
Chief, Permits, Conservation and Education Division, Office of Protected Resources, National Marine Fisheries Service.

[FR Doc. 03-11616 Filed 5-8-03; 8:45 am]

BILLING CODE 3510-22-S